DEPARTMENT OF THE INTERIOR

National Park Service

Notice of Inventory Completion for Native American Human Remains and Associated Funerary Objects in the Possession of the Alaska State Museum, Juneau, AK, and in the Control of the U.S. Department of the Interior, Bureau of Land Management, Alaska State Office, Anchorage, AK

AGENCY: National Park Service, Interior.

ACTION: Notice.

Notice is hereby given in accordance with provisions of the Native American Graves Protection and Repatriation Act (NAGPRA), 43 CFR 10.9, of the completion of an inventory of human remains and associated funerary objects in the possession of the Alaska State Museum, Juneau, AK, and in the control of the U.S. Department of the Interior, Bureau of Land Management, Alaska State Office, Anchorage, AK.

This notice is published as part of the National Park Service’s administrative responsibilities under NAGPRA, 43 CFR 10.2 (c). The determinations within this notice are the sole responsibility of the museum, institution, or Federal agency that has control of these Native American human remains and associated funerary objects. The National Park Service is not responsible for the determinations within this notice. A detailed assessment of the human remains was made by the Bureau of Land Management, Alaska State Office and the Alaska State Museum professional staff in consultation with representatives of the Kenaitze Indian Tribe and Seldovia Village Tribe.In 1956, human remains representing a minimum of one individual were removed from Halibut Cove, Kachemak Bay, AK, during legally authorized work by archeologist Joel M. Moss. Mr. Moss donated the remains to the Alaska State Museum the same year. The human remains are estimated to date to the 19th century or earlier. No known individual was identified. The single associated funerary object is a stone lamp.Based on cranial morphology, stratigraphy, and an associated funerary object, this individual has been identified as Native American. Based on geographic location, this individual is affiliated with Athabaskan culture and, specifically, with the Athabaskan tribe represented by the Seldovia Village Tribe. This determination of cultural affiliation is based upon the continuity of Native American occupation in the Kachemak Bay, AK, area and verification by representatives of the Kenaitze Indian Tribe that Kachemak Bay is within the traditional territory of the Tainana Athabaskans. Members of the Seldovia Village Tribe report use of the Kachemak Bay area by their ancestors.Based on the above-mentioned information, officials of the Bureau of Land Management, Alaska State Office have determined that, pursuant to 43 CFR 10.2 (d)(1), the human remains listed above represent the physical remains of one individual of Native American ancestry. Officials of the Bureau of Land Management, Alaska State Office also have determined that, pursuant to 43 CFR 10.2 (d)(2), the one object listed above is reasonably believed to have been placed with or near individual human remains at the time of death or later as part of the death rite or ceremony. Lastly, officials of the Bureau of Land Management, Alaska State Office have determined that, pursuant to 43 CFR 10.2 (e), there is a relationship of shared group identity that can be reasonably traced between these Native American human remains and tribes represented by the Seldovia Village Tribe.This notice has been sent to officials of the Kenaitze Indian Tribe and the Seldovia Village Tribe. Representatives of any other Indian tribe that believes itself to be culturally affiliated with these human remains should contact Dr. Robert E. King, Alaska State NAGPRA Coordinator, Bureau of Land Management, 222 West 7th Avenue, Number 13, Anchorage, AK 99513-7599, telephone (907) 271-5510, before August 12, 2002. Repatriation of the human remains and associated funerary object to the Seldovia Village Tribe may begin after that date if no additional claimants come forward.

Dated:April 25, 2002.
Robert Stearns,
Manager, National NAGPRA Program.

[FR Doc. 02-17430 Filed 7-10-02; 8:45 am]

BILLING CODE 4310-70-S